DEPARTMENT OF TRANSPORTATION

Federal Aviation Administration

14 CFR Part 39

[Docket No. FAA-2015-0839; Directorate Identifier 2015-CE-006-AD; Amendment 39-18131; AD 2015-07-03]

RIN 2120-AA64

Airworthiness Directives; Cessna Aircraft Company Airplanes

AGENCY: Federal Aviation Administration (FAA), DOT.

ACTION: Final rule; request for comments.

SUMMARY: We are adopting a new airworthiness directive (AD) for certain Cessna Aircraft Company (Cessna) Model 402C and 414A airplanes. This AD requires repetitively inspecting the engine mount beams for cracks and contacting Cessna for FAA-approved corrective action if cracks are found. This AD also requires sending an inspection report to the FAA and to Cessna. This AD was prompted by reports of cracks found across the engine mount beams. We are issuing this AD to correct the unsafe condition on these products.

DATES: This AD is effective April 24, 2015.

The Director of the Federal Register approved the incorporation by reference of a certain publication listed in this AD as of April 24, 2015.

We must receive comments on this AD by May 26, 2015.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this AD, contact Cessna Aircraft Company, Customer service, P.O. Box 7706, Wichita, KS 67277; telephone: (316) 517-5800; fax: (316) 517-7271; email: customercare@cessna.textron.com; Internet: http://www.cessnasupport.com. You may review this referenced service information at the FAA, Small Airplane Directorate, 901 Locust, Kansas City, Missouri 64106. For information on the availability of this material at the FAA, call (816) 329-4148. It is also available on the Internet at http://www.regulations.gov by searching for and locating Docket No. FAA-2015-0839.

Examining the AD Docket

You may examine the AD docket on the Internet at http://www.regulations.gov by searching for and locating Docket No. FAA-2015-0839; or in person at the Docket Management Facility between 9 a.m. and 5 p.m., Monday through Friday, except Federal holidays. The AD docket contains this AD, the regulatory evaluation, any comments received, and other information. The street address for the Docket Office (phone: 800-647-5527) is in the ADDRESSES section. Comments will be available in the AD docket shortly after receipt.

FOR FURTHER INFORMATION CONTACT: Gary Park, Aerospace Engineer, Wichita Aircraft Certification Office, FAA, 1801 S. Airport Road, Room 100, Wichita, Kansas 67209; phone: (316) 946-4123; fax: (316) 946-4107; email: gary.park@faa.gov.

SUPPLEMENTARY INFORMATION:

Discussion

We received reports of cracks found on the engine mount beams of certain Cessna Aircraft Company (Cessna) Model 402C airplanes. The cracks found run across the beam and extend beyond the doubler located under the aft engine mount and aft of the forward engine mount. Investigation revealed that the cause of the cracks is fatigue.

The engine beam mounts of the Cessna Model 402C airplanes are the same type design as that of the Cessna Model 414A airplanes.

This condition, if not detected and corrected, could result in failure of an engine mount beam and could lead to engine separation with consequent loss of power and loss of control. We are issuing this AD to correct the unsafe condition on these products.

Relevant Service Information Under 1 CFR Part 51

We reviewed Cessna Aircraft Company Multi-engine Service Letter No. MEL-54-01, dated March 20, 2015, including the undated Attachment, “Inspection Results Form.” The Cessna Aircraft Company Multi-engine Service Letter describes procedures for inspecting the engine mount beams for cracks and reporting the inspection results to Cessna. This information is reasonably available at http://www.regulations.gov by searching for and locating Docket No. FAA-2015-0839, or you may see ADDRESSES for other ways to access this service information.

FAA's Determination

We are issuing this AD because we evaluated all the relevant information and determined the unsafe condition described previously is likely to exist or develop in other products of the same type design.

AD Requirements

This AD requires repetitively inspecting the engine mount beams for cracks and contacting Cessna for an FAA-approved corrective action if cracks are found. This AD also requires sending the inspection results to the FAA and to Cessna.

Differences Between This AD and the Service Information

Cessna Aircraft Company Multi-engine Service Letter No. MEL-54-01, dated March 20, 2015, including the undated Attachment, “Inspection Results Form,” specifies reporting the inspection results to Cessna. In this AD, we also require that the inspection results be reported to the FAA.

FAA's Justification and Determination of the Effective Date

An unsafe condition exists that requires the immediate adoption of this AD. The FAA has found that the risk to the flying public justifies waiving notice and comment prior to adoption of this rule because cracks in the engine mount beam could cause the engine mount beam to fail and lead to engine separation with consequent loss of power and loss of control. Therefore, we find that notice and opportunity for prior public comment are impracticable and that good cause exists for making this amendment effective in less than 30 days.

Comments Invited

This AD is a final rule that involves requirements affecting flight safety and was not preceded by notice and an opportunity for public comment. However, we invite you to send any written data, views, or arguments about this AD. Send your comments to an address listed under the ADDRESSES section. Include the docket number FAA-2015-0839 and Directorate Identifier 2015-CE-006-AD at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD affects 555 airplanes of U.S. registry.

We estimate the following costs to comply with this AD:

Estimated Costs
Action | Labor cost | Parts cost | Cost per product | Cost on U.S. operators
Prepare airplane for inspections | 3 work-hours × $85 per hour = $255 per inspection cycle | Not applicable | $255 per inspection cycle | $141,525 per inspection cycle
X-ray inspection of the engine mount beams (4 engine mount beams per airplane) | 8 work-hours × $85 per hour = $680 per inspection cycle | $180 | $860 per inspection cycle | $477,300 per inspection cycle
Eddy current inspection of the engine mount beams (4 engine mount beams per airplane) | 1 work-hour × $85 per hour = $85 per inspection cycle | Not applicable | $85 per inspection cycle | $47,175 per inspection cycle
Visual inspection of the engine mount beams (4 engine mount beams per airplane) | 1 work-hour × $85 per hour = $85 per inspection cycle | Not applicable | $85 per inspection cycle | $47,175 per inspection cycle

We have no way of knowing the extent of cracks that may be found during the required inspections. Therefore, we have no way of determining the cost of the corrective action.

Paperwork Reduction Act

A federal agency may not conduct or sponsor, and a person is not required to respond to, nor shall a person be subject to penalty for failure to comply with a collection of information subject to the requirements of the Paperwork Reduction Act unless that collection of information displays a current valid OMB control number. The control number for the collection of information required by this AD is 2120-0056. The paperwork cost associated with this AD has been detailed in the Costs of Compliance section of this document and includes time for reviewing instructions, as well as completing and reviewing the collection of information. Therefore, all reporting associated with this AD is mandatory. Comments concerning the accuracy of this burden and suggestions for reducing the burden should be directed to the FAA at 800 Independence Ave. SW., Washington, DC 20591. ATTN: Information Collection Clearance Officer, AES-200.

Authority for This Rulemaking

Title 49 of the United States Code specifies the FAA's authority to issue rules on aviation safety. Subtitle I, section 106, describes the authority of the FAA Administrator. “Subtitle VII: Aviation Programs” describes in more detail the scope of the Agency's authority.

We are issuing this rulemaking under the authority described in Subtitle VII, Part A, Subpart III, section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2015-07-03 Cessna Aircraft Company: Amendment 39-18131; Docket No. FAA-2015-0839; Directorate Identifier 2015-CE-006-AD.

(a) Effective Date

This AD is effective April 24, 2015.

(b) Affected ADs

None.

(c) Applicability

This AD applies to Cessna Aircraft Company Model 402C airplanes, serial numbers 402C0001 through 402C1020, and Model 414A airplanes, serial numbers 414A0001 through 414A1212, certificated in any category.

(d) Subject

Joint Aircraft System Component (JASC)/Air Transport Association (ATA) of America Code 54, Nacelles/Pylons.

(e) Unsafe Condition

This AD was prompted by reports of cracks found on the engine mount beams. We are issuing this AD to prevent failure of the engine mount beams, which could lead to engine separation with consequent loss of power and loss of control.

(f) Compliance

Comply with this AD within the compliance times specified, unless already done.

(g) Inspect Engine Mount Beams

At the compliance times specified in paragraphs (g)(1) through (g)(4) of this AD, inspect each engine mount beam using radiographic (x-ray), eddy current, and visual methods following the Accomplishment Instructions in Cessna Aircraft Company Multi-engine Service Letter No. MEL-54-01, dated March 20, 2015. If total hours time-in-service (TIS) on an engine mount beam is unknown, use the airplane's total hours TIS.

(1) For each engine mount beam that has accumulated less than 20,000 hours TIS, initially inspect at whichever of the following that occurs later and repetitively thereafter at intervals not to exceed 200 hours TIS as long as no cracks are found:

(i) At or before the accumulation of 15,000 hours TIS on each engine beam; or

(ii) Within the next 100 hours TIS after the effective date of this AD or within the next 90 days after the effective date of this AD, whichever occurs first.

(2) For each engine mount beam that has accumulated 20,000 hours TIS but no more than 24,999 hours TIS, initially inspect at whichever of the following that occurs first and repetitively thereafter at intervals not to exceed 200 hours TIS as long as no cracks are found:

(i) Within the next 75 hours TIS after the effective date of this AD; or

(ii) Within the next 60 days after the effective date of this AD.

(3) For each engine mount beam that has accumulated 25,000 hours TIS but no more than 30,000 hours TIS, initially inspect at whichever of the following that occurs first and repetitively thereafter at intervals not to exceed 200 hours TIS as long as no cracks are found:

(i) Within the next 50 hours TIS after the effective date of this AD; or

(ii) Within the next 45 days after the effective date of this AD.

(4) For each engine mount beam that has accumulated more than 30,000 hours TIS, initially inspect at whichever of the following that occurs first and repetitively thereafter at intervals not to exceed 200 hours TIS as long as no cracks are found:

(i) Within the next 25 hours TIS after the effective date of this AD; or

(ii) Within the next 30 days after the effective date of this AD.

(h) Contact Cessna Aircraft Company

If any cracks are found during any inspection required in paragraphs (g)(1) through (g)(4) of this AD, before further flight, contact Cessna Aircraft Company at the address specified in paragraph (m)(3) of this AD for an FAA-approved corrective action developed specifically for this AD.

(i) Reporting Requirement

Within 10 days after each inspection required in paragraphs (g)(1) through (g)(4) of this AD or within 10 days after the effective date of this AD, whichever occurs later, using the undated Attachment, “Inspection Results Form,” to Cessna Aircraft Company Multi-engine Service Letter No. MEL-54-01, dated March 20, 2015, report the results to the FAA, Wichita Aircraft Certification Office (ACO) at the address specified in paragraph (l) of this AD. Report the result of each inspection to the FAA, Wichita ACO, for one year after the date of the initial inspection required in paragraphs (g)(1) through (g)(4) of this AD. Also report the results of the initial inspection to Cessna at the address specified in paragraph (m)(3) of this AD.

(j) Paperwork Reduction Act Burden Statement

A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(k) Alternative Methods of Compliance (AMOCs)

(1) The Manager, Wichita ACO, FAA, has the authority to approve AMOCs for this AD, if requested using the procedures found in 14 CFR 39.19. In accordance with 14 CFR 39.19, send your request to your principal inspector or local Flight Standards District Office, as appropriate. If sending information directly to the manager of the ACO, send it to the attention of the person identified in paragraph (l) of this AD.

(2) Before using any approved AMOC, notify your appropriate principal inspector, or lacking a principal inspector, the manager of the local flight standards district office/certificate holding district office.

(l) Related Information

Gary Park, Aerospace Engineer, Wichita ACO, FAA, 1801 S. Airport Road, Room 100, Wichita, Kansas 67209; phone: (316) 946-4123; fax: (316) 946-4107; continued operational safety email: 9-ACE-Wichita-COS@faa.gov; engineer contact email: gary.park@faa.gov.

(m) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Cessna Aircraft Company Multi-engine Service Letter No. MEL-54-01, dated March 20, 2015, including the undated Attachment, “Inspection Results Form.”

(ii) Reserved.

(3) For Cessna Aircraft Company service information identified in this AD, contact Cessna Aircraft Company, Customer service, P.O. Box 7706, Wichita, KS 67277; telephone: (316) 517-5800; fax: (316) 517-7271; email: customercare@cessna.textron.com; Internet: http://www.cessnasupport.com.

(4) You may view this service information at the FAA, Small Airplane Directorate, 901 Locust, Kansas City, Missouri 64106. For information on the availability of this material at the FAA, call (816) 329-4148. It is also available on the Internet at http://www.regulations.gov by searching for and locating Docket No. FAA-2015-0839.

(5) You may view this service information that is incorporated by reference at the National Archives and Records Administration (NARA). For information on the availability of this material at NARA, call 202-741-6030, or go to: http://www.archives.gov/federal-register/cfr/ibr-locations.html.

Issued in Kansas City, Missouri, on March 30, 2015.
Pat Mullen,
Acting Manager, Small Airplane Directorate, Aircraft Certification Service.

[FR Doc. 2015-07705 Filed 4-8-15; 8:45 am]

BILLING CODE 4910-13-P